DEPARTMENT OF HEALTH AND HUMAN SERVICES

National Institutes of Health

National Cancer Institute; Amended Notice of Meeting

Notice is hereby given of a change in the meeting of the National Cancer Institute Special Emphasis Panel, September 29, 2004, 8:30 a.m. to September 29, 2004, 3 p.m., Morrison House, 116 S. Alfred Street, Alexandria, VA 22314 which was published in the Federal Register on September 9, 2004, 69 FR 54689.

This meeting is amended to change the start time on September 29, 2004 to 9 a.m. and the location to Sheraton Suites Alexandria, 801 North Asaph Street, Alexandria, VA 22314. The meeting is closed to the public.

Dated: September 14, 2004.
LaVerne Y. Stringfield,
Director, Office of Federal Advisory Committee Policy.

[FR Doc. 04-21111 Filed 9-17-04; 8:45 am]

BILLING CODE 4140-01-M